DEPARTMENT OF COMMERCE

International Trade Administration

[A-821-817]

Antidumping Duty Order: Silicon Metal From Russia

AGENCY: Import Administration, International Trade Administration, U.S. Department of Commerce.

ACTION: Notice of antidumping duty order.

EFFECTIVE DATE: March 26, 2003.

FOR FURTHER INFORMATION CONTACT: Cheryl Werner at (202) 482-2667, Import Administration, International Trade Administration, U.S. Department of Commerce, 14th Street and Constitution Avenue, NW., Washington, DC 20230.

Background

On February 11, 2003, the Department of Commerce (“the Department”) published a notice of final determination of sales at less than fair value in the investigation of silicon metal from the Russian Federation (“Russia”). Notice of Final Determination of Sales at Less Than Fair Value: Silicon Metal From the Russian Federation, 68 FR 6885 (February 11, 2003) (“Final Determination”). On March 7, 2003, the Department issued its amended final determination in the antidumping duty investigation of silicon metal from Russia. See Notice of Amended Final Determination of Sales at Less Than Fair Value: Silicon Metal from the Russian Federation, 68 FR 12037 (March 13, 2003) (Amended Final Determination). In the Amended Final Determination, the Department amended the weighted-average margins for Bratsk Aluminum Smelter (“Bratsk”) and ZAO Kremny (“Kremny”)/Sual-Kremny-Ural Ltd. (“SKU”).

On March 19, 2003, the International Trade Commission (“ITC”) notified the Department of its final determination pursuant to section 735(b)(1)(A)(i) of the Act that an industry in the United States is materially injured by reason of less-than-fair-value imports of silicon metal from Russia. In addition, the ITC notified the Department of its final determination that critical circumstances do not exist with respect to imports of subject merchandise from Russia that are subject to the Department's affirmative critical circumstances finding.

Scope of the Orders

For purposes of this investigation, the product covered is silicon metal, which generally contains at least 96.00 percent but less than 99.99 percent silicon by weight. The merchandise covered by this investigation also includes silicon metal from Russia containing between 89.00 and 96.00 percent silicon by weight, but containing more aluminum than the silicon metal which contains at least 96.00 percent but less than 99.99 percent silicon by weight. Silicon metal currently is classifiable under subheadings 2804.69.10 and 2804.69.50 of the Harmonized Tariff Schedule of the United States (“HTSUS”). This investigation covers all silicon metal meeting the above specification, regardless of tariff classification.

Antidumping Duty Order

In accordance with section 736(a)(1) of the Act, the Department will direct the Customs Service to assess, upon further advice by the Department, antidumping duties equal to the amount by which the normal value of the merchandise exceeds the export price of the merchandise for all relevant entries of silicon metal from Russia. The antidumping duties will be assessed on all unliquidated entries of silicon metal entered, or withdrawn from warehouse, for consumption on or after September 20, 2002, the date on which the Department published its notice of preliminary determination in the Federal Register.

Regarding the negative critical circumstances determination, we will instruct the Customs service to lift suspension and to release any bond or other security, and refund any cash deposit made, to secure the payment of antidumping duties with respect to entries of the merchandise entered, or withdrawn from warehouse, for consumption on or after June 22, 2002, but before September 20, 2002. June 22, 2002, is 90 days prior to September 20, 2002, the date of publication of the preliminary determination in the Federal Register.

Customs must require, at the same time as importers would normally deposit estimated duties on this merchandise, a cash deposit equal to the estimated weighted-average antidumping duty margins as noted below. The “Russia-wide” rates apply to all exporters of subject merchandise not specifically listed. The weighted-average dumping margins are as follows:

Manufacturer/Producer/Exporter | Weighted- average margin
Bratsk Aluminum Smelter | 79.42
ZAO Kremny/Sual-Kremny-Ural Ltd. | 56.11
Russia-wide | 79.42

This notice constitutes the antidumping duty order with respect to silicon metal from Russia, pursuant to section 736(a) of the Act. Interested parties may contact the Department's Central Records Unit, Room B-099 of the Main Commerce Building, for copies of an updated list of antidumping duty orders currently in effect.

This order is published in accordance with section 736(a) of Act and 19 CFR 351.211.

Dated: March 20, 2003.
Joseph A. Spetrini,
Acting Assistant Secretary for Import Administration.

[FR Doc. 03-7261 Filed 3-25-03; 8:45 am]

BILLING CODE 3510-DS-P